DEPARTMENT OF ENERGY

Federal Energy Regulatory Commission

[Project Nos. 13948-002; 13994-002]

Public Utility District No. 1 of Snohomish County; Notice of Scoping Meetings and Environmental Site Review and Soliciting Scoping Comments

Take notice that the following hydroelectric applications have been filed with Commission and are available for public inspection:

a. Type of Application: New Major License.

b. Project Nos.: 13948-002 and 13994-002.

c. Date filed: August 1, 2013.

d. Applicant: Public Utility District No. 1 of Snohomish County (SnoPUD).

e. Name of Projects: Calligan Creek Hydroelectric Project and Hancock Creek Hydroelectric Project.

f. Location: The Calligan Creek Hydroelectric Project would be located on Calligan Creek in King County, approximately 9 miles northeast of North Bend, Washington. It would not occupy any federal lands.

The Hancock Creek Hydroelectric Project would be located on Hancock Creek in King County, approximately 9 miles northeast of North Bend, Washington. It would not occupy any federal lands.

g. Filed Pursuant to: Federal Power Act, 16 U.S.C. 791(a)-825(r).

h. Applicant Contact: Kim D. Moore, P.E., Assistant General Manager of Generation, Water and Corporate Services; Public Utility District No. 1 of Snohomish County, 2320 California Street, P.O. Box 1107, Everett, WA 98206-1107; (425) 783-8606; KDMoore@snopud.com.

i. FERC Contact: Kelly Wolcott, kelly.wolcott@ferc.gov, (202) 502-6480.

j. Deadline for filing scoping comments: March 29, 2014.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket numbers P-13948-002 and/or P-13994-002.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The Calligan Creek Hydroelectric Project would consist of the following new facilities: (1) An approximately 130-foot-long, 15-foot-wide diversion structure traversing Calligan Creek, consisting of a 45-foot-long, 8-foot-high spillway and two 14-foot-high wingwalls; (2) a 1.04-acre-foot impoundment; (3) an intake equipped with a 220-square-foot fish screen with 0.125-inch-wide openings, a trashrack, and a sluice gate; (4) a 1.2-mile-long, approximately 41-inch-diameter buried penstock; (5) approximately 1.2 miles of buried power and fiber optic cable providing power to the intake area for monitoring the remote sensors and operating screens and gates; (6) a powerhouse containing a single 6-MW two-jet horizontal-shaft Pelton turbine/generator; (7) a 135-foot-long rip-rap-lined tailrace channel discharging into Calligan Creek; (8) two access roads totaling 300 feet long; (9) a 2.5-mile-long, 34.5-kilovolt buried transmission line connecting to the existing Black Creek Hydroelectric Project (P-6221) switching vault; and (10) appurtenant facilities. No federal lands are included in the project.

The Hanock Creek Hydroelectric Project would consist of the following new facilities: (1) An approximately 130-foot-long, 10.7-foot-wide diversion structure traversing Hancock Creek, consisting of a 45-foot-long, 6-foot-high spillway and two 12-foot-high wingwalls; (2) a 0.85-acre-foot impoundment; (3) a 25-foot-wide, 12-foot-high, 53-foot-long intake with a trashrack, a 220-square-foot fish screen, and a sluice gate; (4) a 1.5-mile-long, approximately 40-inch-diameter buried penstock; (5) approximately 1.5 miles of buried power and fiber optic cable providing power to the intake area for monitoring the remote sensors and operating screens and gates; (6) a powerhouse containing a single 6-MW two-jet horizontal-shaft Pelton turbine/generator; (7) a 12-foot-wide, approximately 100-foot-long rip-rap-lined tailrace channel discharging into Hancock Creek; (8) two existing logging roads totaling 1,210 feet long; (9) three new access roads totaling 1,220 feet long; (10) a 0.3-mile-long, 34.5-kilovolt buried transmission line connecting to the existing Black Creek Hydroelectric Project (P-6221) switching vault; and (11) appurtenant facilities. No federal lands are included in the project.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process

The Commission intends to prepare an Environmental assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization concerns, while the public scoping meeting is primarily for public input. All interested individuals, organizations, and agencies are invited to attend one or both of the meetings, and to assist the staff in identifying the scope of the environmental issues that should be analyzed in the EA.

The scoping meetings and the site review for both projects will be conducted jointly since these projects are in close proximity to each other. At the scoping meetings, we will discuss the Calligan Creek Project first, followed by the Hancock Creek Project.

The times and locations of these meetings are as follows:

Agency Scoping Meeting

Date: Thursday, February 27, 2014.

Time: 9:00 a.m. (PST).

Place: North Bend Rail Depot.

Address: 205 McClellan Street, North Bend, Washington.

Public Scoping Meeting

Date: Wednesday, February 26, 2014.

Time: 7:00 p.m. (PST).

Place: North Bend Rail Depot.

Address: 205 McClellan Street, North Bend, Washington.

Copies of the Scoping Document (SD1) outlining the subject areas to be addressed in the EA were distributed to the parties on the Commission's mailing list. Copies of the SD1 will be available at the scoping meeting or may be viewed on the web at http://www.ferc.gov using the “eLibrary” link (see item m above).

Environmental Site Review

The Applicant and FERC staff will conduct a project Environmental Site Review beginning at 8:00 a.m. (PST) on Wednesday, February 26, 2014. All interested individuals, organizations, and agencies are invited to attend. All participants should meet at Snoqualmie Falls Project parking area, across from the Salish Lodge. The address for the Snoqualmie Falls Project parking area is: 6501 Railroad Avenue, Snoqualmie, Washington. All participants are responsible for their own transportation to the site. Anyone with questions about the Environmental Site Review should contact Ms. Dawn Presler of SnoPUD at (425) 783-1709.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Dated: January 24, 2014.
Kimberly D. Bose,
Secretary.

[FR Doc. 2014-01866 Filed 1-29-14; 8:45 am]

BILLING CODE 6717-01-P